DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: For-Hire Telephone Survey.

OMB Control Number: 0648-xxxx.

Form Number(s): NA.

Type of Request: Regular submission (request for a new information collection).

Number of Respondents: 22,421.

Average Hours per Response: 3 minutes.

Burden Hours: 1,121.

Needs and Uses: This request is for a new information collection.

Marine recreational anglers are surveyed to collect catch and effort data, fish biology data, and angler socioeconomic characteristics. These data are required to carry out provisions of the Magnuson-Stevens Fishery Conservation and Management Act (16 U.S.C. 1801 et seq.), as amended, regarding conservation and management of fishery resources.

The For-Hire Survey (FHS) will collect recreational fishing catch and effort data through a telephone, Web-based data collection, and log sheet methods. Amendments to the Magnuson-Stevens Fishery Conservation and Management Act require the development of an improved data collection program for recreational fisheries. To meet these requirements, NOAA Fisheries has designed a telephone questionnaire in the Computer Assisted Telephone Interview (CATI) system for surveying and collecting catch and effort data from recreational anglers. The FHS will sample a week's activity from 10% of vessels that are permitted for-hire or charter vessel trips. Each interview will collect the number of recreational fishing trips, and log sheets submitted by the permit holders will show corresponding effort data (e.g. time at sea, amounts of catch from each fishery), within the sample selected week. In lieu of telephone interviews, respondents may also provide information via a Web-based application.

Affected Public: Business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 23, 2014.
Gwellnar Banks,
Management Analyst, Office of the Chief Information Officer.

[FR Doc. 2014-23020 Filed 9-26-14; 8:45 am]

BILLING CODE 3510-22-P